DEPARTMENT OF JUSTICE

Office of Justice Programs

Agency Information Collection Activities: Proposed Collection; Comments Requested

ACTION: 60-Day Emergency Notice of Information Collection Under Review: New. Needs Assessment for Service Providers of Trafficking Victims Telephone Survey.

The Department of Justice (DOJ), Office of Justice Programs, National Institute of Justice has submitted the following information collection request to the Office of Management and Budget (OMB) for review and approval in accordance with emergency review procedures of the Paperwork Reduction Act of 1995. OMB approval has been requested by August 2, 2002. The proposed information collection is published to obtain comments from the public and affected agencies. If granted, the emergency approval is only valid for 180 days. Comments should be directed to OMB, Office of Information and Regulation Affairs, Attention: Department of Justice Desk Officer (202) 395-6466, Washington, DC 20503.

During the first 60 days of this same review period, a regular review of this information collection is also being undertaken. All comments and suggestion, or questions regarding additional information, to include obtaining a copy of the proposed information collection instrument with instructions, should be directed to Tracey Henke, Office of the Assistant Attorney General, Office of Justice Programs, Department of Justice, 810 7th Street, NW., Washington, DC 20531, or call (202) 307-5933.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New Collection.

(2) Title of the Form/Collection: Needs Assessment for Service Providers of Trafficking Victims Telephone Survey.

(3) Agency form number, if any, and the applicable component of the department sponsoring the collection: Form Number: OJP Form Number 1121. National Institute of Justice, Office of Justice Programs, Department of Justice.

(4) Affected public who will be asked or required to respond, as well as a brief abstract: Affected public includes agencies and/or organizations who work with victims of trafficking in persons or advocate on their behalf. This collection will gather information related to assessing the needs of service providers who provide assistance to victims of trafficking in persons. The data will then be used to advise the Office of Justice Programs, other federal agencies and their grantees in the development of data-drive programs to serve trafficking victims and ensure that these programs are both responsive and effective in meeting the needs of trafficking victims. Additionally, the information will inform the development of training and technical assistance programs that best meet the identified needs of the field.

(5) An estimate of the total number of respondents and the amount of time estimated for an average respondent to respond: It is estimated that 200 respondents will each complete a 1-hour telephone survey.

(6) An estimate of the total public burden (in hours) associated with the collection: An estimate of the total hour burden to conduct this survey is 200 hours.

If additional information is required contact: Brenda E. Dyer, Department Deputy Clearance Officer, Information Management and Security Staff, Justice Management Division, United States Department of Justice, Patrick Henry Building, Suite 1600, 601 D Street NW., Washington, DC 20530.

Dated: July 23, 2002.
Brenda E. Dyer,
Department Deputy Clearance Officer, Department of Justice.

[FR Doc. 02-19279 Filed 7-30-02; 8:45 am]

BILLING CODE 4410-18-M